DEPARTMENT OF TRANSPORTATION

Federal Railroad Administration

Environmental Impact Statement for Pennsylvania Maglev Proposal

AGENCY: Federal Railroad Administration (FRA), DOT.

ACTION: Notice of intent to prepare an environmental impact statement.

SUMMARY: FRA is issuing this notice to advise the public that FRA will prepare an environmental impact statement (EIS) for the Pennsylvania Maglev proposal linking Pittsburgh International Airport to Pittsburgh and its eastern suburbs in Allegheny and Westmoreland Counties; to solicit public and agency input into the development of the EIS; and, to advise the public that outreach activities conducted by the program participants will be considered in the preparation of the EIS.

FOR FURTHER INFORMATION CONTACT: Mr. Bruce W. Ahern, Port Authority of Allegheny County, 2235 Beaver Avenue, Pittsburgh, PA 15233-1080, Telephone: (412) 237-6121, email Bahern@PortAuthority.org or Michael Saunders, Federal Railroad Administration, 628-2 Hebron Avenue, Suite 303, Glastonbury, CT 06033-5007, Telephone: (860) 659-6714, email Michael.Saunders@fhwa.dot.gov

SUPPLEMENTARY INFORMATION:

Background

The FRA prepared a programmatic EIS (PEIS) to address the selection process and the potential for significant environmental impact from the maglev deployment program authorized in Section 1218 (23 U.S.C. 322) of the Transportation Equity Act for the 21st Century (TEA 21). The notice of availability of the final PEIS was published in the Federal Register on May 4, 2001. In addition, the Port Authority of Allegheny County prepared an environmental assessment for the Pennsylvania project in February, 2000 which was used by the FRA to assist the agency in preparing the PEIS. The PEIS is available on the FRA website at: http://www.fra.dot.gov/s/env/maglev/MagPEIS.htm.

The Secretary of Transportation, consistent with FRA's Maglev Deployment Program regulation (49 CFR part 268), selected two locations (including this proposal) for further analysis and the development of a site specific EIS. This could lead to the selection of a single project for Federal capital assistance for construction, depending on the appropriation of funds by the U.S. Congress.

The FRA, in cooperation with the Port Authority of Allegheny County, will prepare a site-specific EIS on a proposal to build a Maglev project linking Pittsburgh International Airport to Pittsburgh and its eastern suburbs. The FRA, in cooperation with the Maryland Mass Transit Administration, will also prepare a site-specific EIS for the other location selected for further analysis and development.

It is anticipated that the EIS will consider alternatives including: (1) Taking no action, and (2) various alignment and station locations from the airport to downtown Pittsburgh and the eastern suburbs of Monroeville and Greensburg.

Scoping and Comments

FRA encourages broad participation in the EIS process and review of the resulting environmental documents. Comments and suggestions related to the project and potential environmental concerns are invited from all interested agencies and the public at large to ensure that the full range of issues related to the proposed action and all reasonable alternatives are addressed and all significant issues are identified. The public will be invited to participate in the scoping process, review the draft EIS, and provide input at public meetings. Letters describing the proposed scope of the EIS and soliciting comments will be sent to appropriate Federal, State and local agencies, elected officials, community organizations, and to private organizations and citizens who have previously expressed interest in this proposal. Several public meetings to be advertised in the local media will be held in the project area regarding this proposal. Release of the draft EIS for public comment and public meetings and hearings will be announced as those dates are established.

Comments or questions concerning this notice of intent and the EIS should be directed to the FRA or the Port Authority of Allegheny County at the addresses noted above.

Issued in Washington DC on: July 13, 2001.
Arrigo P. Mongini,
Deputy Associate Administrator for Railroad Development, Federal Railroad Administration.

[FR Doc. 01-18112 Filed 7-18-01; 8:45 am]

BILLING CODE 4910-06-P